DEPARTMENT OF HEALTH AND HUMAN SERVICES

Administration for Children and Families

Submission for OMB Review; Comment Request

Title: Objective Work Plan and Project Abstract.

OMB No.: 0980-0204.

Description: The information collected by the Objective Work Plan is needed to properly administer and monitor the Administration for Native Americans (ANA) Program's competitive areas—Social and Economic Development Strategies (SEDS), ANA Environmental Regulatory Enhancement, Native Language Preservation, and ANA Mitigation of Environmental Impacts to Indian Lands Due to Department of Defense Activities, by providing information in an application for a grant award. This data is used by legislatively-mandated Native American review panels, and ANA, as the basis for recommendations for the decisions to award competitive ANA grants. The project Abstract provides crucial information in a concise format that is used by the independent review panel, ANA staff and the Commissioner during all phases of the review process.

Respondents: Tribal Govt. Native non-profits, Tribal Colleges & Universities.

Annual Burden Estimates
Instrument | Number of respondents | Number of responses per respondent | Average burden hours per response | Total burden hours
OWP | 650 | 1 | 28 | 18,200
Project Abstract | 650 | 1 | 1 | 650

Estimated Total Annual Burden Hours: 18,850.

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: lauren_wittenberg@omb.eop.gov.

Dated: August 14, 2003.
Robert Sargis,
Reports Clearance Officer.

[FR Doc. 03-21288 Filed 8-19-03; 8:45 am]

BILLING CODE 4184-01-M